DEPARTMENT OF ENERGY

Federal Energy Regulatory Commission

Combined Notice of Filings No. 2

June 29, 2010.

Take notice that the Commission received the following electric rate filings:

Docket Numbers: ER10-1585-000.

Applicants: Alabama Electric Marketing, LLC.

Description: Alabama Electric Marketing, LLC submits tariff filing per 35.12: Market-Based Rate Tariff in Compliance with Order No. 714 to be effective 6/28/2010.

Filed Date: 06/28/2010.

Accession Number: 20100628-5183.

Comment Date: 5 p.m. Eastern Time on Monday, July 19, 2010.

Docket Numbers: ER10-1586-000.

Applicants: Big Sandy Peaker Plant, LLC.

Description: Big Sandy Peaker Plant, LLC submits tariff filing per 35.12: Market-Based Rate Tariff in Compliance with Order No. 714 to be effective 6/28/2010.

Filed Date: 06/28/2010.

Accession Number: 20100628-5195.

Comment Date: 5 p.m. Eastern Time on Monday, July 19, 2010.

Docket Numbers: ER10-1587-000.

Applicants: KGen Murray I and II LLC.

Description: KGen Murray I and II LLC submits tariff filing per 35.37: Category 1 Demonstration Filing to be effective 8/28/2010.

Filed Date: 06/28/2010.

Accession Number: 20100628-5209.

Comment Date: 5 p.m. Eastern Time on Monday, July 19, 2010.

Docket Numbers: ER10-1588-000.

Applicants: KGen Hot Spring LLC.

Description: KGen Hot Spring LLC submits tariff filing per 35.37: Category 1 Demonstration Filing to be effective 8/28/2010.

Filed Date: 06/28/2010.

Accession Number: 20100628-5210.

Comment Date: 5 p.m. Eastern Time on Monday, July 19, 2010.

Docket Numbers: ER10-1589-000.

Applicants: KGen Hinds LLC.

Description: KGen Hinds LLC submits tariff filing per 35.37: Category 1 Demonstration Filing to be effective 8/28/2010.

Filed Date: 06/28/2010.

Accession Number: 20100628-5211.

Comment Date: 5 p.m. Eastern Time on Monday, July 19, 2010.

Docket Numbers: ER10-1590-000.

Applicants: Southwest Power Pool, Inc.

Description: Southwest Power Pool, Inc submits an executed service agreement for Firm Point-To-Point Transmission Service with Calpine Energy Services, LP, effective 6/1/2010.

Filed Date: 06/28/2010.

Accession Number: 20100629-0102.

Comment Date: 5 p.m. Eastern Time on Monday, July 19, 2010.

Docket Numbers: ER10-1591-000.

Applicants: Southwest Power Pool, Inc.

Description: Southwest Power Pool, Inc submits an executed Meter Agent Services Agreement with Westar Energy, Inc Generation Services.

Filed Date: 06/28/2010.

Accession Number: 20100629-0103.

Comment Date: 5 p.m. Eastern Time on Monday, July 19, 2010.

Docket Numbers: ER10-1592-000.

Applicants: Ameren Services Company.

Description: Ameren Services Company submits an executed second revised service agreement for Wholesale Distribution Service with City of Jackson, Missouri.

Filed Date: 06/28/2010.

Accession Number: 20100629-0104.

Comment Date: 5 p.m. Eastern Time on Monday, July 19, 2010.

Docket Numbers: ER10-1593-000.

Applicants: American Electric Power Service Corporation.

Description: American Electric Power Service Corp submits Ninth Interconnection and Local Delivery Service Agreement No 1262 with Wabash Valley Power Association, Inc.

Filed Date: 06/28/2010.

Accession Number: 20100629-0105.

Comment Date: 5 p.m. Eastern Time on Monday, July 19, 2010.

Docket Numbers: ER10-1594-000.

Applicants: California Electric Marketing, LLC.

Description: California Electric Marketing, LLC submits tariff filing per 35.12: Market-Based Rate Tariff in Compliance with Order No. 714 to be effective 6/29/2010.

Filed Date: 06/29/2010.

Accession Number: 20100629-5069.

Comment Date: 5 p.m. Eastern Time on Tuesday, July 20, 2010.

Docket Numbers: ER10-1595-000.

Applicants: Crete Energy Venture, LLC.

Description: Crete Energy Venture, LLC submits tariff filing per 35.12: Market-Based Rate Tariff in Compliance with Order No. 714 to be effective 6/29/2010.

Filed Date: 06/29/2010.

Accession Number: 20100629-5070.

Comment Date: 5 p.m. Eastern Time on Tuesday, July 20, 2010.

Docket Numbers: ER10-1596-000.

Applicants: High Desert Power Project, LLC.

Description: High Desert Power Project, LLC submits tariff filing per 35.12: Market-Based Rate Tariff in Compliance with Order No. 714 to be effective 6/29/2010.

Filed Date: 06/29/2010.

Accession Number: 20100629-5071.

Comment Date: 5 p.m. Eastern Time on Tuesday, July 20, 2010.

Docket Numbers: ER10-1597-000.

Applicants: Kiowa Power Partners, LLC.

Description: Kiowa Power Partners, LLC submits tariff filing per 35.12: Market Based Rate Tariff in Compliance with Order No. 714 to be effective 6/29/2010.

Filed Date: 06/29/2010.

Accession Number: 20100629-5072.

Comment Date: 5 p.m. Eastern Time on Tuesday, July 20, 2010.

Docket Numbers: ER10-1598-000.

Applicants: Lincoln Generating Facility, LLC.

Description: Lincoln Generating Facility, LLC submits tariff filing per 35.12: Market-Based Rate Tariff in Compliance with Order No. 714 to be effective 6/29/2010.

Filed Date: 06/29/2010.

Accession Number: 20100629-5075.

Comment Date: 5 p.m. Eastern Time on Tuesday, July 20, 2010.

Docket Numbers: ER10-1599-000.

Applicants: Invenergy Cannon Falls LLC.

Description: Invenergy Cannon Falls LLC submits tariff filing per 35: Category 1 Exemption Filing to be effective 8/29/2010.

Filed Date: 06/29/2010.

Accession Number: 20100629-5078.

Comment Date: 5 p.m. Eastern Time on Tuesday, July 20, 2010.

Docket Numbers: ER10-1600-000.

Applicants: Forward Energy LLC.

Description: Forward Energy LLC submits tariff filing per 35: Category 1 Exemption Filing to be effective 8/29/2010.

Filed Date: 06/29/2010.

Accession Number: 20100629-5079.

Comment Date: 5 p.m. Eastern Time on Tuesday, July 20, 2010.

Docket Numbers: ER10-1601-000.

Applicants: Hardee Power Partners Limited.

Description: Hardee Power Partners Limited submits tariff filing per 35: Category 1 Exemption Filing to be effective 8/29/2010.

Filed Date: 06/29/2010.

Accession Number: 20100629-5080.

Comment Date: 5 p.m. Eastern Time on Tuesday, July 20, 2010.

Docket Numbers: ER10-1602-000.

Applicants: Beech Ridge Energy LLC.

Description: Beech Ridge Energy LLC submits tariff filing per 35: Category 1 Exemption Filing to be effective 8/29/2010.

Filed Date: 06/29/2010.

Accession Number: 20100629-5081.

Comment Date: 5 p.m. Eastern Time on Tuesday, July 20, 2010.

Docket Numbers: ER10-1603-000.

Applicants: Grand Ridge Energy LLC.

Description: Grand Ridge Energy LLC submits tariff filing per 35: Category 1 Exemption Filing to be effective 8/29/2010.

Filed Date: 06/29/2010.

Accession Number: 20100629-5082.

Comment Date: 5 p.m. Eastern Time on Tuesday, July 20, 2010.

Docket Numbers: ER10-1604-000.

Applicants: Grand Ridge Energy II LLC.

Description: Grand Ridge Energy II LLC submits tariff filing per 35: Category 1 Exemption Filing to be effective 8/29/2010.

Filed Date: 06/29/2010.

Accession Number: 20100629-5084.

Comment Date: 5 p.m. Eastern Time on Tuesday, July 20, 2010.

Docket Numbers: ER10-1605-000.

Applicants: Grand Ridge Energy III LLC.

Description: Grand Ridge Energy III LLC submits tariff filing per 35: Category 1 Exemption Filing to be effective 8/29/2010.

Filed Date: 06/29/2010.

Accession Number: 20100629-5087.

Comment Date: 5 p.m. Eastern Time on Tuesday, July 20, 2010.

Docket Numbers: ER10-1606-000.

Applicants: Grand Ridge Energy IV LLC.

Description: Grand Ridge Energy IV LLC submits tariff filing per 35: Category 1 Exemption Filing to be effective 8/29/2010.

Filed Date: 06/29/2010.

Accession Number: 20100629-5092.

Comment Date: 5 p.m. Eastern Time on Tuesday, July 20, 2010.

Docket Numbers: ER10-1607-000.

Applicants: Grand Ridge Energy V LLC.

Description: Grand Ridge Energy V LLC submits tariff filing per 35: Category 1 Exemption Filing to be effective 8/29/2010.

Filed Date: 06/29/2010.

Accession Number: 20100629-5094.

Comment Date: 5 p.m. Eastern Time on Tuesday, July 20, 2010.

Docket Numbers: ER10-1608-000.

Applicants: Invenergy TN LLC.

Description: Invenergy TN LLC submits tariff filing per 35: Category 1 Exemption Filing to be effective 8/29/2010.

Filed Date: 06/29/2010.

Accession Number: 20100629-5097.

Comment Date: 5 p.m. Eastern Time on Tuesday, July 20, 2010.

Docket Numbers: ER10-1609-000.

Applicants: Judith Gap Energy LLC.

Description: Judith Gap Energy LLC submits tariff filing per 35: Category 1 Exemption Filing to be effective 8/29/2010.

Filed Date: 06/29/2010.

Accession Number: 20100629-5101.

Comment Date: 5 p.m. Eastern Time on Tuesday, July 20, 2010.

Docket Numbers: ER10-1610-000.

Applicants: Wolverine Creek Energy LLC.

Description: Wolverine Creek Energy LLC submits tariff filing per 35: Category 1 Exemption Filing to be effective 8/29/2010.

Filed Date: 06/29/2010.

Accession Number: 20100629-5102.

Comment Date: 5 p.m. Eastern Time on Tuesday, July 20, 2010.

Docket Numbers: ER10-1611-000.

Applicants: Grays Harbor Energy LLC.

Description: Grays Harbor Energy LLC submits tariff filing per 35: Category 1 Exemption Filing to be effective 8/29/2010.

Filed Date: 06/29/2010.

Accession Number: 20100629-5103.

Comment Date: 5 p.m. Eastern Time on Tuesday, July 20, 2010.

Docket Numbers: ER10-1612-000.

Applicants: Spring Canyon Energy LLC.

Description: Spring Canyon Energy LLC submits tariff filing per 35: Category 1 Exemption Filing to be effective 8/29/2010.

Filed Date: 06/29/2010.

Accession Number: 20100629-5104.

Comment Date: 5 p.m. Eastern Time on Tuesday, July 20, 2010.

Docket Numbers: ER10-1613-000.

Applicants: Spindle Hill Energy LLC.

Description: Spindle Hill Energy LLC submits tariff filing per 35: Category 1 Exemption Filing to be effective 8/29/2010.

Filed Date: 06/29/2010.

Accession Number: 20100629-5105.

Comment Date: 5 p.m. Eastern Time on Tuesday, July 20, 2010.

Docket Numbers: ER10-1614-000.

Applicants: Sheldon Energy LLC.

Description: Sheldon Energy LLC submits tariff filing per 35: Category 1 Exemption Filing to be effective 8/29/2010.

Filed Date: 06/29/2010.

Accession Number: 20100629-5106.

Comment Date: 5 p.m. Eastern Time on Tuesday, July 20, 2010.

Docket Numbers: ER10-1615-000.

Applicants: Willow Creek Energy LLC.

Description: Willow Creek Energy LLC submits tariff filing per 35: Category 1 Exemption Filing to be effective 8/29/2010.

Filed Date: 06/29/2010.

Accession Number: 20100629-5107.

Comment Date: 5 p.m. Eastern Time on Tuesday, July 20, 2010.

Docket Numbers: ER10-1616-000.

Applicants: New Covert Generating Company, LLC.

Description: New Covert Generating Company, LLC submits tariff filing per 35.12: Market-Based Rate Tariff in Compliance with Order No. 714 to be effective 6/29/2010.

Filed Date: 06/29/2010.

Accession Number: 20100629-5111.

Comment Date: 5 p.m. Eastern Time on Tuesday, July 20, 2010.

Docket Numbers: ER10-1617-000.

Applicants: New Mexico Electric Marketing, LLC.

Description: New Mexico Electric Marketing, LLC submits tariff filing per 35.12: Market-Based Rate Tariff in Compliance with Order No. 714 to be effective 6/29/2010.

Filed Date: 06/29/2010.

Accession Number: 20100629-5112.

Comment Date: 5 p.m. Eastern Time on Tuesday, July 20, 2010.

Docket Numbers: ER10-1618-000.

Applicants: Rolling Hills Generating, LLC.

Description: Rolling Hills Generating, LLC submits tariff filing per 35.12: Market-Based Rate Tariff in Compliance with Order No. 714 to be effective 6/29/2010.

Filed Date: 06/29/2010.

Accession Number: 20100629-5113.

Comment Date: 5 p.m. Eastern Time on Tuesday, July 20, 2010.

Docket Numbers: ER10-1619-000.

Applicants: Tenaska Alabama Partners, LP.

Description: Tenaska Alabama Partners, LP submits tariff filing per 35.12: Market-Based Rate Tariff in Compliance with Order No. 714 to be effective 6/29/2010.

Filed Date: 06/29/2010.

Accession Number: 20100629-5114.

Comment Date: 5 p.m. Eastern Time on Tuesday, July 20, 2010.

Docket Numbers: ER10-1620-000.

Applicants: Tenaska Alabama II Partners, LP.

Description: Tenaska Alabama II Partners, LP submits tariff filing per 35.12: Market-Based Rate Tariff in Compliance with Order No. 714 to be effective 6/29/2010.

Filed Date: 06/29/2010.

Accession Number: 20100629-5115.

Comment Date: 5 p.m. Eastern Time on Tuesday, July 20, 2010.

Docket Numbers: ER10-1621-000.

Applicants: Golden State Water Company.

Description: Golden State Water Company submits tariff filing per 35.12: Baseline Tariff Filing to be effective 6/29/2010.

Filed Date: 06/29/2010.

Accession Number: 20100629-5118.

Comment Date: 5 p.m. Eastern Time on Tuesday, July 20, 2010.

Docket Numbers: ER10-1622-000.

Applicants: Interstate Power and Light Company.

Description: Application of Interstate Power and Light Company; Preliminary Survey and Investigation Costs for Proposed Sutherland Generating Station Unit 4.

Filed Date: 06/29/2010.

Accession Number: 20100629-5124.

Comment Date: 5 p.m. Eastern Time on Tuesday, July 20, 2010.

Docket Numbers: ER10-1623-000.

Applicants: Tenaska Frontier Partners, Ltd.

Description: Tenaska Frontier Partners, Ltd. submits tariff filing per 35.12: Market-Based Rate Tariff in Compliance with Order No. 714 to be effective 6/29/2010.

Filed Date: 06/29/2010.

Accession Number: 20100629-5136.

Comment Date: 5 p.m. Eastern Time on Tuesday, July 20, 2010.

Docket Numbers: ER10-1624-000.

Applicants: Tenaska Gateway Partners, Ltd.

Description: Tenaska Gateway Partners, Ltd. submits tariff filing per 35.12: Market-Based Rate Tariff in Compliance with Order No. 714 to be effective 6/29/2010.

Filed Date: 06/29/2010.

Accession Number: 20100629-5138.

Comment Date: 5 p.m. Eastern Time on Tuesday, July 20, 2010.

Docket Numbers: ER10-1625-000.

Applicants: Tenaska Georgia Partners, LP.

Description: Tenaska Georgia Partners, LP submits tariff filing per 35.12: Market-Based Rate Tariff in Compliance with Order No. 714 to be effective 6/29/2010.

Filed Date: 06/29/2010.

Accession Number: 20100629-5139.

Comment Date: 5 p.m. Eastern Time on Tuesday, July 20, 2010.

Docket Numbers: ER10-1626-000.

Applicants: Tenaska Virginia Partners, LP.

Description: Tenaska Virginia Partners, LP submits tariff filing per 35.12: Market-Based Rate Tariff in Compliance with Order No. 714 to be effective 6/29/2010.

Filed Date: 06/29/2010.

Accession Number: 20100629-5141.

Comment Date: 5 p.m. Eastern Time on Tuesday, July 20, 2010.

Docket Numbers: ER10-1627-000.

Applicants: Tenaska Washington Partners, LP.

Description: Tenaska Washington Partners, LP submits tariff filing per 35.12: Market-Based Rate Tariff in Compliance with Order No. 714 to be effective 6/29/2010.

Filed Date: 06/29/2010.

Accession Number: 20100629-5143.

Comment Date: 5 p.m. Eastern Time on Tuesday, July 20, 2010.

Docket Numbers: ER10-1628-000.

Applicants: Texas Electric Marketing, LLC.

Description: Texas Electric Marketing, LLC submits tariff filing per 35.12: Market-Based Rate Tariff in Compliance with Order No. 714 to be effective 6/29/2010.

Filed Date: 06/29/2010.

Accession Number: 20100629-5147.

Comment Date: 5 p.m. Eastern Time on Tuesday, July 20, 2010.

Docket Numbers: ER10-1629-000.

Applicants: San Diego Gas & Electric Company.

Description: San Diego Gas & Electric Company submits tariff filing per 35: San Diego Gas & Electric Company Baseline Transmission Owner Tariff Volume 11 to be effective 6/28/2010.

Filed Date: 06/29/2010.

Accession Number: 20100629-5150.

Comment Date: 5 p.m. Eastern Time on Tuesday, July 20, 2010.

Docket Numbers: ER10-1630-000.

Applicants: Wolf Hills Energy, LLC.

Description: Wolf Hills Energy, LLC submits tariff filing per 35.12: Market-Based Rate Tariff in Compliance with Order No. 714 to be effective 6/29/2010.

Filed Date: 06/29/2010.

Accession Number: 20100629-5151.

Comment Date: 5 p.m. Eastern Time on Tuesday, July 20, 2010.

Docket Numbers: ER10-1631-000.

Applicants: University Park Energy, LLC.

Description: University Park Energy, LLC submits tariff filing per 35.12: Market-Based Rate Tariff in Compliance with Order No. 714 to be effective 6/29/2010.

Filed Date: 06/29/2010.

Accession Number: 20100629-5155.

Comment Date: 5 p.m. Eastern Time on Tuesday, July 20, 2010.

Docket Numbers: ER10-1632-000.

Applicants: Tenaska Power Services Co.

Description: Tenaska Power Services Co. submits tariff filing per 35.12: Market-Based Rate Tariff in Compliance with Order No. 714 to be effective 6/29/2010.

Filed Date: 06/29/2010.

Accession Number: 20100629-5162.

Comment Date: 5 p.m. Eastern Time on Tuesday, July 20, 2010.

Take notice that the Commission received the following electric securities filings:

Docket Numbers: ES10-48-000.

Applicants: Trans-Allegheny Interstate Line Company.

Description: Trans-Allegheny Interstate Line Company Supplemental Filing.

Filed Date: 06/29/2010.

Accession Number: 20100629-5130.

Comment Date: 5 p.m. Eastern Time on Friday, July 09, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. 2010-16634 Filed 7-7-10; 8:45 am]

BILLING CODE 6717-01-P